NUCLEAR REGULATORY COMMISSION

10 CFR Parts 50, 52 and 100

[NRC-2020-0076]

Regulatory Guide: Volcanic Hazards Assessment for Proposed Nuclear Power Reactor Sites

AGENCY: Nuclear Regulatory Commission.

ACTION: Final guide; issuance.

SUMMARY: The U.S. Nuclear Regulatory Commission (NRC) is issuing Revision 1 to Regulatory Guide (RG) 4.26 “Volcanic Hazards Assessment for Proposed Nuclear Power Reactor Sites,” to restore text and a Section heading inadvertently omitted from Section C, “Staff Regulatory Guidance,” of Revision 0. The restored text appeared in the draft guide released for public comment. In addition, there is a minor update of the Paperwork Reduction Act text in the RG. The changes do not represent substantive changes in the NRC staff's regulatory positions.

DATES: Revision 1 to RG 4.26 is available on August 21, 2023.

ADDRESSES: Please refer to Docket ID NRC-2020-0076 when contacting the NRC about the availability of information regarding this document. You may obtain publicly available information related to this document using any of the following methods:

• Federal Rulemaking website: Go to https://www.regulations.gov and search for Docket ID NRC-2020-0076. Address questions about Docket IDs in Regulations.gov to Stacy Schumann; telephone: 301-415-0624; email: Stacy.Schumann@nrc.gov. For technical questions, contact the individuals listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Revision 1 to RG 4.26 “Volcanic Hazards Assessment for Proposed Nuclear Power Reactor Sites,” is available in ADAMS under Accession No. ML23167A078.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

Regulatory guides are not copyrighted, and NRC approval is not required to reproduce them.

FOR FURTHER INFORMATION CONTACT: Jenise Thompson, Office of Nuclear Reactor Regulation, telephone: 301-415-0381, email: Jenise.Thompson@nrc.gov and Edward O'Donnell, Office of Nuclear Regulatory Research, telephone: 301-415-3317, email: Edward.ODonnell@nrc.gov. Both are staff of the U.S. Nuclear Regulatory Commission, Washington, DC 20555-0001.

SUPPLEMENTARY INFORMATION:

I. Discussion

The NRC is issuing a revision to an existing guide in the NRC's “Regulatory Guide” series. This series was developed to describe methods that are acceptable to the NRC staff for implementing specific parts of the agency's regulations, to explain techniques that the staff uses in evaluating specific issues or postulated events, and to describe information that the staff needs in its review of applications for permits and licenses.

The NRC typically seeks public comment on a draft version of a RG by announcing its availability for comment in the Federal Register. However, as explained in NRC's Management Directive 6.6 “Regulatory Guides,” (ADAMS Accession No. ML22010A233) the NRC may directly issue a final RG without a draft version or public comment period if the changes to the RG are non-substantive.

The NRC is issuing Revision 1 of RG 4.26 directly as a final RG because the changes between Revision 1 and Revision 0 are non-substantive. The NRC issued Revision 0 of RG 4.26 in June 2021 (86 FR 34057) to provide guidance for facilitating the NRC staff's review of volcanic hazards assessments performed by applicants to support the siting of new nuclear power reactors. Recently it was noted that there was an administrative error in omission of text and a subheading of the guidance in Section C “Staff Regulatory Guidance.” Also, in the discussion of Step 4: “Evaluate Eruption Potential and/or Hazard Potential,” two paragraphs and two bullet points discussing model support are missing as well as the subheading for the following section, Step 5: “Develop Risk Insights,” despite their inclusion in the draft guide released for public comment (ADAMS Accession No. ML20007D621) and a subsequent draft revised in light of public comments that was presented to NRC's Advisory Committee on Reactor Safeguards for review in spring 2021 (ADAMS Accession No. ML20022A214). In addition, there is an update of the contact information in Paperwork Reduction Act text in the RG.

As noted in the Federal Register on December 9, 2022 (87 FR 75671), this document is being published in the “Rules” section of the Federal Register to comply with publication requirements under 1 CFR chapter I.

II. Backfitting, Forwarding, and Issue Finality

Issuance of RG 4.26, Revision 1, does not constitute backfitting as defined in section 50.109 of title 10 of the Code of Federal Regulations (10 CFR), (the Backfit Rule), and is not otherwise inconsistent with the issue finality provisions in 10 CFR part 52. The changes in Revision 1 of RG 4.26 are limited to editorial changes to improve clarity and the correction of a title. These changes do not fall within the kinds of agency actions that constitute backfitting or are subject to limitations in the issue finality provisions of part 52. Accordingly, the NRC did not address the Backfit Rule or issue finality provisions of part 52.

III. Congressional Review Act

This RG is a rule as defined in the Congressional Review Act (5 U.S.C. 801-808). However, the Office of Management and Budget has not found it to be a major rule as defined in the Congressional Review Act.

IV. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: August 15, 2023.
For the Nuclear Regulatory Commission.
Michael A. Eudy,
Acting Chief, Regulatory Guide and Programs Management Branch, Division of Engineering, Office of Nuclear Regulatory Research.

[FR Doc. 2023-17867 Filed 8-18-23; 8:45 am]

BILLING CODE 7590-01-P